DEPARTMENT OF ENERGY

Federal Energy Regulatory Commission

[Docket No. CP08-51-000]

Transwestern Pipeline Company, LLC; Notice of Request Under Blanket Authorization

January 22, 2008.

Take notice that on January 14, 2008, Transwestern Pipeline Company, LLC (Transwestern), 711 Louisiana Street, Suite 900, Houston, Texas 77002-2716, filed in Docket No. CP08-51-000, a prior notice request pursuant to sections 157.205, 157.210, and 157.216 of the Federal Energy Regulatory Commission's regulations under the Natural Gas Act for authorization to construct, own, operate, and abandon compression equipment, located in Apache County, Arizona, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

Transwestern proposes to: (i) Construct, own, and operate compression equipment consisting of three 5,000 electric horsepower (HP) motors, compressor units, station piping, and ancillary facilities; and (ii) to abandon, in place, the existing three 4,000 HP reciprocating gas engines, compressors, and ancillary facilities, at Transwestern's Compressor Station 4, located in Apache County, Arizona (Station 4 Electrification Project). Transwestern estimates the cost of the project to be $14,000,000. Transwestern states that the purpose of the project is to improve system reliability and to reduce operating and maintenance costs by replacing older gas engines with new, more efficient electric engines.

Any questions regarding the application should be directed to Kelly Allen, Manager of Certificates and Reporting, Transwestern Pipeline Company, LLC, 711 Louisiana Street, 9th Floor South Tower, Houston, Texas 77002-2716, call (281) 714-2056, fax (281) 714-2180, or by e-mail Kelly.Allen@energytransfer.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E8-1592 Filed 1-29-08; 8:45 am]

BILLING CODE 6717-01-P